DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the special permits described herein.

DATES: Comments must be received on or before March 26, 2025.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on February 19, 2025.
T Glenn Foster,
Chief, Regulatory Review and Reinvention Branch, Office of Hazardous Materials Safety, Pipeline and Hazardous Materials Safety Administration.

Application No. | Applicant | Regulation(s) affected | Nature of the special permits thereof
Special Permits Data—Granted
16172-M | Entegris, Inc | 173.301(f) | To modify the special permit to authorize an additional hazardous material.
20274-M | Bollore Logistics USA Inc | 172.101(j), 172.300, 172.400, 173.301, 173.302a(a)(1), 173.304a(a)(2) | To modify the special permit to add an additional CAE approval from France.
20527-M | Procyon-Alpha Squared, Inc | 172.102(c)(1), 173.185(c)(1)(iii), 173.185(c)(1)(iv), 173.185(c)(1)(v), 173.185(c)(3), 173.159a(c)(2) | To modify the special permit to authorize rail as a mode of transportation.
21396-M | Porsche Cars North America, Inc | 173.185(f)(3) | To modify the special permit to authorize an additional battery module and transportation aboard cargo vessel.
21663-M | Orbion Space Technology, Inc | 172.203(a), 172.301(c), 173.301(f)(1), 173.302(a)(1) | To modify the special permit to authorize an additional packaging, additional modes, and an additional hazardous material.
21779-N | Zhejiang Dongcheng Printing Industry Co., Ltd | 173.302(a)(1), 173.304(a), 173.304(d), 173.167(a)(1) | To authorize the manufacture, mark, sale, and use of a non-DOT specification, non-refillable inside steel container conforming with all regulations applicable to a DOT specification 2Q inside container, except as specified herein, for the transportation in commerce of the hazardous materials authorized by this special permit.
21812-N | PolyPetroChem, LLC | 172.203(a), 178.345-1, 180.413 | To authorize the manufacture, mark, sale, and use of manway assemblies constructed from stabilized polyethylene for installation on certain DOT specification cargo tank motor vehicles used in transporting certain hazardous materials.
21814-N | Bren-Tronics, Inc | 172.101(j) | To authorize the transportation in commerce of lithium batteries exceeding 35 kg by cargo-only aircraft.
21834-N | Umbra Lab, Inc | 173.301(f)(1) | To authorize the transportation in commerce of compressed xenon in fully wrapped fiber reinforced composite cylinders (COPV) with aluminum liners designed, manufactured, and tested to UN ISO 11119-2 specifications, except that no pressure relief devices are used.
21840-N | Lunar Energy, Inc | 172.101(j) | To authorize the transportation in commerce of lithium batteries exceeding 35 kg by cargo-only aircraft.
Special Permits Data—Denied
21904-M | SkyTaxi Sp.Z.O.O | 172.101(j)(1), 173.27(b)(2), 175.30(a)(1) | To modify the departure location identified in the permit.
Special Permits Data—Withdrawn

[FR Doc. 2025-02972 Filed 2-21-25; 8:45 am]

BILLING CODE P